DEPARTMENT OF ENERGY

Federal Energy Regulatory Commission

[Project No. 1951-071; Georgia]

Georgia Power Company; Notice of Availability of Environmental Assessment

July 6, 2000.

In accordance with the National Environmental Policy Act of 1969 and the Federal Energy Regulatory Commission's regulations, 18 CFR part 380 (Order No. 486, 52 FR 47910), the Office of Energy Projects has prepared an environmental assessment (EA) on the Georgia Power Company's application for approval of a new commercial dock facility. The Georgia Power Company proposes to permit Mr. Scott Jackson (permittee), to construct and operate a commercial dock facility on Lake Sinclair's Beaver Dam Creek. The proposed facility includes three open boat docks with a total of 24 slips, that can accommodate up to 42 watercraft; a fuel dock; a boat ramp; and a boat drop. The proposed facility would be used in conjunction with the permittee's planned commercial development on his adjoining property. The Sinclair Project is located on the Oconee River, in Putnam and Baldwin Counties, Georgia.

The EA is attached to a Commission order issued on June 27, 2000 for the above application. Copies of the EA can be obtained by calling the Commission's Public Reference Room at (202) 208-1371. Copies of the EA can also be obtained through the Commission's homepage at http://www.ferc.fed.us. In the EA, staff concludes that approval of the licensee's proposal would not constitute a major Federal action significantly affecting the quality of the human environment.

David P. Boergers,
Secretary.

[FR Doc. 00-17551 Filed 7-11-00; 8:45 am]

BILLING CODE 6717-01-M